DEPARTMENT OF COMMERCE

Office of the Secretary

Estimates of the Voting Age Population for 2016

AGENCY: Office of the Secretary, Commerce.

ACTION: General notice announcing population estimates.

SUMMARY: This notice announces the voting age population estimates as of July 1, 2016, for each state and the District of Columbia. We are providing this notice in accordance with the 1976 amendment to the Federal Election Campaign Act, Title 52, United States Code, Section 30116(e).

FOR FURTHER INFORMATION CONTACT: Karen Battle, Chief, Population Division, U.S. Census Bureau, Room HQ-6H174, Washington, DC 20233, at 301-763-2071.

SUPPLEMENTARY INFORMATION: Under the requirements of the 1976 amendment to the Federal Election Campaign Act, Title 52, United States Code, Section 30116(e), I hereby give notice that the estimates of the voting age population for July 1, 2016, for each state and the District of Columbia are as shown in the following table.

Estimates of the Population of Voting Age for Each State and the District of Columbia: July 1, 2016
Area | Population 18 and over
United States: | 249,485,228
Alabama | 3,766,477
Alaska | 554,567
Arizona | 5,299,579
Arkansas | 2,283,195
California | 30,157,154
Colorado | 4,279,173
Connecticut | 2,823,158
Delaware | 747,791
District of Columbia | 560,277
Florida | 16,465,727
Georgia | 7,798,827
Hawaii | 1,120,541
Idaho | 1,245,967
Illinois | 9,875,430
Indiana | 5,057,601
Iowa | 2,403,962
Kansas | 2,192,338
Kentucky | 3,426,345
Louisiana | 3,567,717
Maine | 1,076,765
Maryland | 4,667,719
Massachusetts | 5,433,677
Michigan | 7,737,243
Minnesota | 4,231,619
Mississippi | 2,267,438
Missouri | 4,706,137
Montana | 814,909
Nebraska | 1,433,791
Nevada | 2,262,631
New Hampshire | 1,074,207
New Jersey | 6,959,717
New Mexico | 1,590,352
New York | 15,564,730
North Carolina | 7,848,068
North Dakota | 581,641
Ohio | 9,002,201
Oklahoma | 2,961,933
Oregon | 3,224,738
Pennsylvania | 10,109,422
Rhode Island | 848,045
South Carolina | 3,863,498
South Dakota | 652,167
Tennessee | 5,149,399
Texas | 20,568,009
Utah | 2,129,444
Vermont | 506,066
Virginia | 6,541,685
Washington | 5,658,502
West Virginia | 1,456,034
Wisconsin | 4,491,015
Wyoming | 446,600
Source: U.S. Census Bureau, Population Division, Vintage 2016 Population Estimates.

I have certified these estimates for the Federal Election Commission.

Dated: January 18, 2017.
Penny Pritzker,
Secretary, U.S. Department of Commerce.

[FR Doc. 2017-01890 Filed 1-27-17; 8:45 am]

BILLING CODE 3510-07-P